DEPARTMENT OF TRANSPORTATION

Office of the Secretary

Notice of Applications for Certificates of Public Convenience and Necessity and Foreign Air Carrier Permits Filed Under Subpart B (Formerly Subpart Q) During the Week Ending November 11, 2005

The following Applications for Certificates of Public Convenience and Necessity and Foreign Air Carrier Permits were filed under Subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-22935.

Date Filed: November 7, 2005.

Due Date for Answers, Conforming Applications, or Motion to Modify Scope: November 28, 2005.

Description: Application of Mokulele Flight Service, Inc. requesting a certificate of public convenience and necessity authorizing scheduled air transportation of persons, property and mail to the following airports: Honolulu International Airport, Kahului International Airport and Kona International Airport.

Docket Number: OST-1995-297.

Date Filed: November 8, 2005.

Due Date for Answers, Conforming Applications, or Motion to Modify Scope: November 29, 2005.

Description: Application of American Airlines, Inc. requesting renewal of segment 4 of its certificate for Route 389, authorizing scheduled foreign air transportation of persons, property, and mail between the coterminal points New York, New York/Newark, New Jersey and Miami, FL and the coterminal points Rio de Janeiro and Sao Paulo, Brazil.

Docket Number: OST-2000-8515.

Date Filed: November 8, 2005.

Due Date for Answers, Conforming Applications, or Motion to Modify Scope: November 29, 2005.

Description: Application of American Airlines, Inc. requesting renewal of its certificate for Route 583, authorizing scheduled foreign air transportation of persons, property, and mail between San Jose, CA, and Tokyo, Japan.

Docket Number: OST-2000-8910.

Date Filed: November 8, 2005.

Due Date for Answers, Conforming Applications, or Motion to Modify Scope: November 29, 2005.

Description: Application of American Airlines, Inc. requesting renewal of its certificate for Route 804, authorizing scheduled foreign air transportation of persons, property, and mail between Miami, FL and Medellin, Colombia.

Renee V. Wright,
Program Manager, Docket Operations, Federal Register Liaison.

[FR Doc. E5-6891 Filed 12-5-05; 8:45 am]

BILLING CODE 4910-62-P